NATIONAL SCIENCE FOUNDATION

Proposal Review Panel for Physics; Notice of Meeting

In accordance with the Federal Advisory Committee Act (Pub. L. 92-463, as amended), the National Science Foundation (NSF) announces the following meeting:

Name and Committee Code: Proposal Review Panel for the Division of Physics (1208) FRHTP at CQuIC Site Visit.

Date and Time:

March 11, 2020; 8:00 p.m.-9:00 p.m.

March 12, 2020; 8:30 a.m.-6:30 p.m.

March 13, 2020; 8:30 a.m.-5:00 p.m.

Place: University of New Mexico, 210 Yale Blvd. NE, Albuquerque, NM 87131.

Type of Meeting: Part-Open.

Contact Person: Bogdan Mihaila, Program Director for Physics Computational Physics, Division of Physics, National Science Foundation, 2415 Eisenhower Avenue, Room 9241, Alexandria, VA 22314; Telephone: (703) 292-8235.

Purpose of Meeting: Site visit to provide an evaluation of the progress of the projects at the host site for the Division of Physics at the National Science Foundation.

Agenda

Wednesday, March 11, 2020

Informal Panel Orientation—8:00 p.m., Closed

Thursday, March 12, 2020

Coffee and Pastries—8:30 a.m., Open

Executive Session—8:45 a.m., Closed

FHRTP Director's Report on Programs—9:00 a.m., Open

Science Presentations (SIs1 or PSIs2)—10:00 a.m., Open

Lunch (with Postdocs)—12:00 p.m., Closed

Science Presentations (SIs1 or PSIs2)—1:00 p.m., Open

Postdoc Presentations—2:00 p.m., Open

Executive Session—formulate queries—4:00 p.m., Closed

Poster Session—5:00 p.m., Open

Panel and NSF Staff Dinner—6:30 p.m., Closed

Friday, March 13, 2020

Coffee and Pastries—8:30 a.m., Open

Response to Panel queries—9:00 a.m., Closed

Meet with Physics Department staff—10:30 a.m., Closed

Executive Session (Lunch)—12:00 p.m., Closed

Close Out FHRTP Director (PI)—2:00 p.m., Closed

Complete Report—2:30 p.m., Closed

Adjourn—5:00 p.m., Closed

Reason for Closing: Topics to be discussed and evaluated during closed portions of the site review will include information of a proprietary or confidential nature, including technical information and information on personnel. These matters are exempt under 5 U.S.C. 552b(c), (4) and (6) of the Government in the Sunshine Act.

Dated: January 23, 2020.
Crystal Robinson,
Committee Management Officer.

[FR Doc. 2020-01388 Filed 1-27-20; 8:45 am]

BILLING CODE 7555-01-P